DEPARTMENT OF COMMERCE

International Trade Administration

Energy and Infrastructure Mission to Saudi Arabia

AGENCY: International Trade Administration, Department of Commerce.

ACTION: Notice.

Mission Description

The United States Department of Commerce, International Trade Administration, U.S. and Foreign Commercial Service (CS) is organizing an Information and Communication Technologies (ICT) trade mission to the Kingdom of Saudi Arabia, April 2-5, 2011. Led by a senior Department of Commerce official, the mission to Saudi Arabia is intended to include representatives from a variety of U.S. ICT industry suppliers and service providers. This trade mission will introduce suppliers of information technology (IT) and communication products and services to potential buyers and allow them to explore new business opportunities. Participating in an official U.S. industry delegation, rather than traveling to Saudi Arabia independently, will enhance the companies' ability to secure meetings with potential buyers, distributors, partners and industry officials in Saudi Arabia. The mission will include appointments, briefings and a networking reception in Riyadh and Jeddah, Saudi Arabia's primary ICT hubs. Trade mission participants will have the opportunity to interact with Commercial Service (CS) specialists covering the ICT industries to discuss industry developments, opportunities, and sales strategies.

Commercial Setting

Saudi Arabia is the largest IT market in the Arabian Gulf, estimated at $3.7 billion in 2010. The Communication and Information Technology Commission (CITC), the Saudi government regulatory agency, revealed that spending on ICT reached $5.96 billion in 2009, is expected to reach at $7 billion in 2010, and projected to grow to $9.8 billion by 2013. The impact of the global economic downturn on the country has been offset by business organizations' growing interest in technology solutions, which boost efficiency and productivity. The Saudi market will continue to be a lucrative market for high-tech products and services over the next few years, supported by increased government spending to upgrade the country's IT and communications infrastructure. Additionally, the government's urban development initiative to establish new economic cities, airports, universities and other infrastructure projects will also stimulate growth in the ICT sector. Other major factors that will influence ICT sector growth include:

• A young population, which is highly technology-oriented. According to the CIA World Factbook, the percentage of population under the age of 14 is 38%.

• One of the world's lowest Internet penetration levels, providing for a good growth potential.

The latest industry figures revealed that there were approximately ten million internet users as of the third quarter in 2009, about 34% of the total population, with a broadband penetration level of 8%.

Industry sources expect sales of hardware to grow annually at an average of 7% over the next three years, while the market for IT services will grow an average of 9% during the same period. According to some estimates, per capita IT spending will reach $173 by 2014, as personal computer (PC) penetration rises to more than 30%. The number of PCs sold in 2009 was 2.1 million units, and is expected to grow to 7.2 million units in 2014.

Industry Developments

The Saudi government continues to prioritize the development and accessibility of the latest ICT products and services. One of the Saudi Shoura Council's (Saudi Parliament) strategic objectives is to raise the IT sector's contribution to GDP from the current 4% to 20% by 2020. The Council aims to raise broadband penetration from 8% to 23% by 2013. Despite the economic downturn in 2009, the Saudi government pressed ahead with its ambitious e-government plan and IT projects. The government launched a $3.1 billion plan to improve the education system, by equipping schools to keep pace with scientific and technological activities, which will include the establishment of a technologically integrated school system with the latest high-tech products and services available to both students and teachers. In line with the government vision to enhance the country's IT standing and install a digital infrastructure, the Saudi market will present excellent opportunities for U.S. manufacturers/suppliers of:

—DSL access switches, enabling multi-service transmission equipment.

—Fiber-optic satellite links.

—Wideband transceivers.

—Network protocol software and systems.

Additionally, there will be growth potential for PCs, notebook computers and IT accessories and services. Collectively, these product categories generated sales that reached $2.9 billion in 2009, including about $1 billion for IT services. Industry sources estimate that total spending on ICT products and services will reach $9.8 billion by 2013.

Total U.S. goods exports to Saudi Arabia in 2009 were $10.8 billion.

Mission Goals

The short term goals of the ICT trade mission to Saudi Arabia will be to:

(1) Introduce U.S. companies to potential joint-venture partners, distributors, and other industry representatives, and,

(2) Introduce U.S. companies to industry and government officials in Saudi Arabia for an update on various opportunities and government projects as well as any relevant government regulations

Mission Scenario

In Riyadh, the U.S. mission members will be presented with a briefing by the U.S. Embassy's Counselor for Commercial Affairs, the Senior Commercial Specialist for the ICT sector and other key U.S. Government and corporate officials. Participants will also take part in business matchmaking appointments with Saudi key organizations.

In Jeddah, participants will receive a market briefing by the Senior Commercial Specialist for ICT sector at the U.S. Consulate, and they will participate in one-on-one business matchmaking appointments. In addition, they will attend a networking reception.

U.S. participants will be counseled before and after the mission by the domestic mission coordinator on logistics and travel. Participation in the mission will include the following:

• Pre-travel briefings on subjects ranging from business practices in Saudi Arabia to security;

• Pre-scheduled meetings with potential partners, distributors, end users and local industry contacts in Riyadh and Jeddah;

• Meetings with CS Saudi Arabia's ICT industry specialists in Riyadh and Jeddah; and

• Networking reception in Jeddah.

Proposed Mission Timetable

Mission participants will be encouraged to arrive April 2, 2011 and the mission program will proceed from April 3 through April 5, 2010.

April 2 | Arrival in Riyadh, Saudi Arabia.
April 3 | Riyadh, Saudi Arabia.
| Market briefings by U.S. Embassy Riyadh and Saudi Government officials One-on-one business matchmaking appointments.
April 4 | Jeddah.
| Travel to Jeddah.
| Networking reception.
April 5 | Jeddah.
| Market briefings by U.S. Consulate Officials.
| One-on-one business matchmaking appointments.
| Debriefing with DOC officials.
April 6 | Depart Jeddah.

Participation Requirements

All parties interested in participating in the ICT Trade Mission to Saudi Arabia must complete and submit an application for consideration by the Department of Commerce. All applicants will be evaluated on their ability to meet certain conditions and best satisfy the selection criteria as outlined below. A minimum of 12 and a maximum of 15 companies will be selected to participate in the mission from the applicant pool. U.S. companies already doing business in Saudi Arabia as well as U.S. companies seeking to enter the market for the first time are encouraged to apply.

Fees and Expenses

After a company has been selected to participate on the mission, a payment to the Department of Commerce in the form of a participation fee is required. The participation fee will be $3,453 for large firms and $2,758 for a small or medium-sized enterprise (SME) or small organization, which will cover one representative.

An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

The fee for each additional firm representative (large firm or SME) is $500.

Expenses for travel, lodging, most meals, and incidentals will be the responsibility of each mission participant.

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria:

• Suitability of a company's products or services to the mission's goals.

• Applicant's potential for business in Saudi Arabia, including likelihood of exports resulting from the trade mission.

• Consistency of the applicant's goals and objectives with the stated scope of the trade mission.

• Diversity of sector participation.

Additional factors, such as diversity of company size, type, location, and demographics, may also be considered during the review process.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet web sites, press releases to general and trade media, direct mail, notices by industry trade associations and other multiplier groups, and publicity at industry meetings, symposia, conferences, and trade shows.

Recruitment for the mission will begin immediately and conclude no later than January 31, 2011. The U.S. Department of Commerce will review all applications immediately after the deadline. We will inform applicants of selection decisions as soon as possible after January 31, 2011. Applications received after that date will be considered only if space and scheduling constraints permit.

Contacts

U.S. Commercial Service Domestic Contact:

Natalia Susak, Phone: 202-482-4423, Fax: 202-482-9000, E-mail: Natalia.Susak@trade.gov.

U.S. Commercial Service Saudi Arabia Contacts:

Ahmed Khayyat, Phone: 966/1/488-3800 x 4441, Fax: 966/1/488-3237, E-mail: ahmed.khayyat@trade.gov.

Natalia Susak,
Trade Promotion Programs, Commercial Service Trade Missions Program.

[FR Doc. 2010-22135 Filed 9-3-10; 8:45 am]

BILLING CODE 3510-FP-P